DEPARTMENT OF HEALTH AND HUMAN SERVICES

Indian Health Service

Proposed Information Collection: Request for Public Comment: 60-Day Notice

AGENCY: Indian Health Service, HHS.

ACTION: Request for public comment: 60-day proposed collection; IHS Urban Indian Health Program common reporting requirements.

SUMMARY: The Indian Health Service, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Indian Health Service (IHS) is providing a 60-day advance opportunity for public comment on a proposed extension of current information collection activity to be submitted to the Office of Management and Budget for review.

Proposed Collection

Title: 09-17-0007, “IHS Urban Indian Health Program Common Reporting Requirements”.

Type of Information Collection Request: Revision of a currently approved collection.

Form Number: Reporting formats contained in the Indian Health Service Urban Indian Health Program Common Reporting Requirements Instruction Manual.

Need and Use of Information Collection: American Indian/Alaska Native (AI/AN) urban health organizations contracting with the IHS provide the information collected. The information is collected annually and is used to monitor contractor performance, prepare budget reports, allocate resources, and evaluate the urban health contract program.

Affected Public: Businesses or other for-profit organizations, individuals, not-for-profit institutions, and State, local, or tribal government.

Type of Respondents: Health care providers.

The table below summarizes the annual burden hour for this collection.

Estimated Burden Response Table
Data collection instruments | Estimated number of respondents | Responses per respondent | Annual number of responses | Average burden hr per response ¹ | Total annual burden hrs
Face Sheet | 34 | 1 | 34 | 0.50 (30 mins) | 17.0
Table 1 | 34 | 1 | 34 | 2.00 (120 mins) | 68.0
Table 2 | 34 | 1 | 34 | 0.75 (45 mins) | 25.5
Table 3 | 34 | 1 | 34 | 2.25 (135 mins) | 76.5
Table 3A | 34 | 1 | 34 | 1.05 (65 mins) | 36.0
Table 3B | 34 | 1 | 34 | 0.25 (15 mins) | 8.5
Table 3C | 34 | 1 | 34 | 0.33 (20 mins) | 11.0
Table 3D | 34 | 1 | 34 | 1.25 (75 mins) | 42.5
Table 4 | ⁽²⁾ | 1 | ⁽²⁾ | 0.50 (30 mins) | 17.0
Table 5 | 34 | 1 | 34 | 2.00 (120 mins) | 68.0
Table 6 | 34 | 1 | 34 | 2.00 (120 mins) | 68.0
Table 7 | 34 | 1 | 34 | 1.00 (60 mins) | 34.0
Table 8 | 34 | 1 | 34 | 1.25 (75 mins) | 42.5
Total | 480 | 14 | 480 | 15.13 (910 mins) | 514.5
¹ For ease of understanding, burden hours are also provided in actual minutes.
² Excludes urban Indian health projects with no medical component.

There are no Capital Costs, Operating Costs, and/or Maintenance Costs to report.

Request for Comments: Your written comments and/or suggestions are invited on one or more of the following points: (a) Whether the information collection activity is necessary to carry out an agency function; (b) whether the agency processes the information collection in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Send Comments and Requests for Information: Send your written comments and suggestions regarding the proposed information collection contained in this notice, especially regarding the estimated public burden and associated response time, and send requests for more information on the proposed collection or to obtain a copy of the data collection instrument(s) and instructions to: Ms. Christine Ingersoll, IHS Reports Clearance Office, 12300 Twinbrook Parkway, Suite 450, Rockville, MD 20852-1601, call non-toll free (301) 443-5938, send via facsimile to (301) 443-2316, or send your e-mail requests, comments, and return address to: cingerso@hqe.ihs.gov.

For Further Information directly pertaining to the proposed data reporting formats contained in the Indian Health Service Urban Indian Health Programs Common Reporting Requirements Instruction Manual and/or the process for handling such formats, please contact Karen Boyle, Reyes Building, Suite 200, 801 Thompson Avenue, Rockville, MD 20852-1627, Telephone (301) 443-4680.

Comment Due Date: Your comments regarding this information collection are best assured of having their full effect if received within 60 days of the date of this publication.

Dated: April 12, 2004.
Charles W. Grim,
Assistant Surgeon General, Director, Indian Health Service.

[FR Doc. 04-8717 Filed 4-16-04; 8:45 am]

BILLING CODE 4160-16-M